FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 20, 2016.

A. Federal Reserve Bank of Kansas City (Dennis Denney, Assistant Vice President) 1 Memorial Drive, Kansas City, Missouri 64198-0001:

1. Rhonda Rainforth, O'Neill, Nebraska; Steven Ott and Adam Ott, both of Wisner, Nebraska; Renee Cleveland and Robert Cheney, both of Norfolk, Nebraska; James Cheney, Charlotte, North Carolina; and John Cheney, Dekalb, Illinois; to acquire shares of Citizens National Corporation, Wisner, Nebraska, as members of the Kvols/Ott/Cheney Family Group. Citizens National Corporation controls Citizens State Bank, Wisner, Nebraska, and Cass County State Company, parent of Cass County Bank, Inc., both of Plattsmouth, Nebraska.

Board of Governors of the Federal Reserve System, August 30, 2016.
Michele Taylor Fennell,
Assistant Secretary of the Board.

[FR Doc. 2016-21192 Filed 9-1-16; 8:45 am]

BILLING CODE 6210-01-P